NATIONAL FOUNDATION ON THE ARTS AND THE HUMANITIES

Institute of Museum and Library Services

Notice of Proposed Information Collection Request: State Library Administrative Agency (SLAA) Survey FY 2022-FY 2024

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning the modifications to and continuance of the State Library Administrative Agency (SLAA) Surveys for Fiscal Years 2022 and 2024. A copy of the proposed information collection request can be obtained by contacting the individual listed below in the ADDRESSES section of this Notice.

DATES: Written comments must be submitted to the office listed in the ADDRESSES section below on or before July 26, 2022.

ADDRESSES: Send comments to: Connie Bodner, Ph.D., Director of Grants Policy and Management, Institute of Museum and Library Services, 955 L'Enfant Plaza North SW, Suite 4000, Washington, DC 20024-2135. Dr. Bodner can be reached by telephone at 202-653-4636, or by email at cbodner@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: Marisa Pelczar, Ph.D., Program Analyst, Office of Research and Evaluation, Institute of Museum and Library Services, 955 L'Enfant Plaza North SW, Suite 4000, Washington, DC 20024-2135. Dr. Pelczar can be reached by telephone: 202-653-4647, or by email at mpelczar@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the nation's libraries and museums. We advance, support, and empower America's museums, libraries, and related organizations through grant making, research, and policy development. To learn more, visit www.imls.gov.

II. Current Actions

Pursuant to Public Law 107-279, this SLAA Survey collects biennial descriptive data on the universe of SLAAs in the United States. SLAAs are the official agencies of each state charged by state law with the extension and development of public library services throughout the state (20 U.S.C. 9122). The purpose of this survey is to provide state and federal policymakers with information about SLAAs, including their governance, allied operations, developmental services to libraries and library systems, support of electronic information networks and resources, number and types of outlets, and direct services to the public. Because the FY 2022 collection will not begin until early 2023, we are carrying over the documentation and estimated burden associated with the FY 2020 data. The SLAA Survey has been conducted by the Institute of Museum and Library Services under the clearance number 3137-0072, which expires October 31, 2023. This action is to request a new three-year approval.

Agency: Institute of Museum and Library Services.

Title: State Library Administrative Agencies Survey, FY 2022 and FY 2024.

OMB Number: 3137-0072.

Agency Number: 3137.

Respondents/Affected Public: Federal, State, and local governments; State Library Administrative Agencies.

Total Estimated Number of Respondents: 51.

Frequency of Response: Biennially.

Estimated Average Burden Hours per Respondent: 25 hours.

Estimated Total Burden Hours: 1,285.

Total Annualized capital/startup costs: n/a.

Total Annual Costs: $37,811.

Total Annual Federal Costs: $307,516.

Public Comments Invited: Comments submitted in response to this Notice will be summarized and/or included in the request for OMB's clearance of this information collection.

Dated: May 23, 2022.
Suzanne Mbollo,
Grants Management Specialist, Institute of Museum and Library Services.

[FR Doc. 2022-11402 Filed 5-26-22; 8:45 am]

BILLING CODE 7036-01-P